CORPORATION FOR NATIONAL AND COMMUNITY SERVICE

Sunshine Act Meeting Notice

The Board of Directors of the Corporation for National and Community Service gives notice of the following meeting:

DATE AND TIME: Wednesday, May 9, 2012, 10:00-11:30 a.m.

PLACE: Corporation for National and Community Service, 1201 New York Avenue, NW., Suite 8312, Washington, DC 20525 (Please go to 10th floor reception area for escort).

CALL-IN INFORMATION: This meeting is available to the public through the following toll-free call-in number: 888-391-6586 conference call access code number 8723527. Any interested member of the public may call this number and listen to the meeting. Callers can expect to incur charges for calls they initiate over wireless lines, and CNCS will not refund any incurred charges. Callers will incur no charge for calls they initiate over land-line connections to the toll-free telephone number. Replays are generally available one hour after a call ends. The toll-free phone number for the replay is 800-262-5024. The end replay date is June 9, 2012, 10:29 p.m. (CT). This meeting will also be broadcast live on the web. Members of the public may view proceedings by visiting http://www.nationalservice.gov/about/newsroom/live.asp

STATUS: Open.

Matters To Be Considered

I. Chair's Opening Comments and Swearing in of New Members

II. Consideration of Previous Meeting's Minutes

III. CEO Report

IV. Discussion, Deliberation and Official Actions

V. Public Testimony from Senior Corps Participants in Honor of Senior Corps Week

VI. Public Comments

Members of the public who would like to comment on the business of the Board may do so in writing or in person. Individuals may submit written comments to esamose@cns.gov subject line: MAY 2012 CNCS BOARD MEETING by 4:00 p.m. ET on Friday May 4th. Individuals attending the meeting in person who would like to comment will be asked to sign-in upon arrival. Comments are requested to be limited to 2 minutes.

REASONABLE ACCOMMODATIONS: The Corporation for National and Community Service provides reasonable accommodations to individuals with disabilities where appropriate. Anyone who needs an interpreter or other accommodation should notify Ida Green at igreen@cns.gov or 202-606-6861 by 5 p.m., May 4, 2012.

CONTACT PERSON FOR MORE INFORMATION: Emily Samose, Strategic Advisor for Board Engagement, Corporation for National and Community Service, 1201 New York Avenue NW., Washington, DC 20525. Phone: (202) 606-7564. Fax: (202) 606-3460. TTY: (800) 833-3722. Email: esamose@cns.gov.

Dated: May 1, 2012.
Valerie Green,
General Counsel.

[FR Doc. 2012-10816 Filed 5-1-12; 4:15 pm]

BILLING CODE 6050-$$-P